Proclamation 10810 of September 13, 2024

National Farm Safety and Health Week, 2024

By the President of the United States of America

A Proclamation

America's farmers, farmworkers, and ranchers work around the clock to nourish our Nation and power our economy, allowing us to feed our communities and compete in markets worldwide. They also steward lands and provide meaningful jobs in our rural and Tribal communities. During National Farm Safety and Health Week, we recognize the incredible contributions of everyone working on farms, and we recommit to improving their safety and well-being.

Our Nation's farms are a source of prosperity, but working on them can be exhausting and hazardous. The agriculture sector is one of America's most dangerous industries. Climate change and intensifying extreme heat puts the lives of agricultural workers at risk and decrease productivity and profits. Uncertainty in the industry heightens stress and takes a toll on our farmworkers' mental health. And unfortunately, many rural communities lack accessible health care, as nearly 200 rural hospitals have closed in the past 20 years.

I believe health care should be a right, not a privilege. To that end, my Administration is investing in rural health care services, training the next generation of rural health care providers, and expanding mental health resources in rural communities. We established the Rural Emergency Hospital Designation to make it easier for struggling hospitals to stay open and help ensure that rural communities have access to emergency services. With $500 million from my American Rescue Plan and $65 billion from my Bipartisan Infrastructure Law, we are making it easier for people in rural areas to access health care, including telehealth services and affordable mental health care. We launched 988—the Suicide and Crisis Lifeline—so that anyone dealing with a crisis can connect to trained counselors by phone, text, or chat. We also finalized a rule that strengthens mental health parity by requiring health insurers to cover mental health care just as they do physical health care. And we added more than 140 Certified Community Behavioral Health Clinics across the Nation, which provide mental health and crisis services to anyone in need, regardless of their ability to pay.

I have maintained my commitment to be the most pro-labor and pro-worker President in history by making sure our workers are safe and secure. Under my leadership and the leadership of Vice President Kamala Harris, the Department of Labor proposed the Nation's first-ever Federal safety standard for excessive heat in the workplace, which would require employers to implement rest breaks, provide access to shade and water, and develop a plan to respond to heat illness. The Department of Labor also finalized a Farmworker Protection Rule to strengthen protections for temporary agricultural workers to ensure all farmworkers in the United States are treated fairly and have safe work environments.

My Administration is providing farms with the resources they need to grow and thrive. Through the Farm Labor Stabilization and Protection Pilot Program, the Department of Agriculture awarded $50 million from my American Rescue Plan to agricultural employers, many of which were small and mid-sized farms, helping ensure they can hire and retain the workers they need to be competitive while improving labor standards for workers. We are working to extend crop insurance coverage to give financial security to farmers who practice double cropping. We have made $900 million available to boost fertilizer production for farms, and I signed an Executive Order to increase competition and make sure that family farms are on a level playing field with corporate farms.

During National Farm Safety and Health Week, we honor farmers, farmworkers, and ranchers for putting food on our tables, powering our economy, and supporting our communities. And we recommit to ensuring they have the resources they need to continue this work and live full, healthy lives.

NOW, THEREFORE, I, JOSEPH R. BIDEN JR., President of the United States of America, by virtue of the authority vested in me by the Constitution and the laws of the United States, do hereby proclaim September 15 through September 21, 2024, as National Farm Safety and Health Week. I call upon the people of the United States—including America's farmers; ranchers; and agriculture-related institutions, organizations, and businesses—to reaffirm a dedication to farm safety and health. I also urge all Americans to express appreciation and gratitude to our farmers, farmworkers, and ranchers for their tireless service to our Nation.

IN WITNESS WHEREOF, I have hereunto set my hand this thirteenth day of September, in the year of our Lord two thousand twenty-four, and of the Independence of the United States of America the two hundred and forty-ninth.

[FR Doc. 2024-21445

Filed 9-17-24; 8:45 am]

Billing code 3395-F4-P